DEPARTMENT OF TRANSPORTATION

Pipeline and Hazardous Materials Safety Administration

[Docket ID PHMSA-2012-0146]

Pipeline Safety: Government/Industry Pipeline Research and Development Forum, Public Meeting

AGENCY: Pipeline and Hazardous Materials Safety Administration (PHMSA), DOT.

ACTION: Notice of public meeting.

SUMMARY: The Pipeline and Hazardous Materials Safety Administration (PHMSA) and the National Association of Pipeline Safety Representatives are hosting a Government/Industry Pipeline Research and Development (R&D) Forum. The R&D Forums are held periodically to generate a National research agenda that will foster solutions for the many challenges with pipeline safety and with protecting the environment.

The forum allows public, government and industry pipeline stakeholders to discuss the technical gaps and challenges for future research. The forum is also intended to help reduce duplication of programs, factor ongoing research efforts, leverage resources and broaden synergies. The national research agenda coming out of these events is aligned with the needs of the pipeline safety mission, makes use of the best available knowledge and expertise, and considers stakeholder perspectives. Specifically the forum will:

• Identify key pipeline technical challenges facing industry and government;

• Disseminate information on current research efforts; and

• Identify new research that can help to meet known challenges.

The Forum will be structured with a combination of general sessions to provide introductory, panel, and summary presentations, and concurrent working group sessions.

DATES: The R&D Forum will be held July 18, 2012, from 8:00 a.m. until approximately 5:00 p.m. EDT and July 19, 2012, from 8:00 a.m. to 4:40 p.m. EDT. Name badge pickup and onsite registration will be available starting at 7:00 a.m. EDT each day.

ADDRESSES: The forum will be held at The Westin Arlington Gateway, 801 North Glebe Road, Arlington, Virginia, 22203, Phone: 703-717-6200, Web site: http://www.WestinArlingtonGateway.com/. Please contact the Westin directly to make room reservations. When making your hotel reservation, please use the Room Block Name: “DOT R&D Forum.” There will be a room rate of $169/night for the nights of July 17 and 18. A very small block of rooms is also available at this rate on the night of July 19. The deadline for securing a room at the rate of $169/night is June 30. The meeting rooms will be posted at the hotel on the days of the forum.

The Hotel is Americans with Disabilities Act (ADA) compliant having 12 ADA accessible guest rooms. All public spaces are ADA accessible. Contact the Westin for more information.

Refer to the meeting Web site for updated registration information, agenda, and times at https://primis.phmsa.dot.gov/meetings/MtgHome.mtg?mtg=77. Please note that the forum will not be webcast due to the numerous concurrent running sessions. All presentations will be available on the meeting Web site within days following the forum.

FOR FURTHER INFORMATION CONTACT: James Merritt at 303-683-3117, or by email at james.merritt@dot.gov.

SUPPLEMENTARY INFORMATION:

Preliminary Agenda

July 18

• Overcoming Challenges with the PHMSA Program (General Session)

• Panel 1—National Perspectives on Key Challenges (General Session)

• Panel 2—Current Research Roadmaps (General Session)

• Panel 3—Advancing Technology into the Market (General Session)

• Working Group Overview (General Session)

• Working Groups Phase 1 (Concurrent Sessions)

—Working Group 1: Threat Prevention

—Working Group 2: Leak Detection/Mitigation & Storage

—Working Group 3: Anomaly Detection/Characterization

—Working Group 4: Anomaly Repair & Remediation

—Working Group 5: Design/Materials/Welding-Joining/Valves

July 19

• Working Groups Phase 2 (Concurrent Sessions)

• Working Groups Phase 3 (Concurrent Sessions)

• Working Group Reports-Out (General Session)

• Summary and Next Steps (General Session)

Issued in Washington, DC, on June 14, 2012.
Linda Daugherty,
Deputy Associate Administrator for Policy and Programs.

[FR Doc. 2012-14903 Filed 6-18-12; 8:45 am]

BILLING CODE 4910-60-P